DEPARTMENT OF DEFENSE

Department of the Army

Privacy Act of 1974; System of Records

AGENCY: Department of the Army, DoD.

ACTION: Notice to amend Address Directory.

SUMMARY: The Department of the Army is amending its Address Directory which appears at the end of the Army's Compilation of Privacy Act systems of records notices subject to the Privacy Act of 1974, (5 U.S.C. 552a), as amended.

DATES: This proposed action will be effective without further notice on May 21, 2001 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: April 16, 2000.
L.M. Bynum,
Alternate OSD Federal Register Liaison Officer, Department of Defense.

Directory of United States Army, Army and Air Force Exchange Service (AAFES), and Federal Acquisition Institute (FAI) Addresses

This directory is published to enable users of systems of records notices to identify the location of such systems of records in order to request access to and amendment of records.

The Following Elements of the Army Constitute the Headquarters, Department of the Army

Office of the Secretary of the Army, 101 Army Pentagon, Washington, DC 20310-0101.

Office of the Under Secretary of the Army, 102 Army Pentagon, Washington, DC 20310-0102.

Office of the Administrative Assistant of the Secretary of the Army, 105 Army Pentagon, Washington, DC 20310-0105.

Office of the Assistant Secretary of the Army for Acquisitions, Logistics, and Technology, 2511 Jefferson Davis Highway, Arlington, VA 22202-3926.

Office of the Assistant Secretary of the Army Civil Works, 108 Army Pentagon, Washington, DC 20310-0108.

Office of the Assistant Secretary of the Army Financial Management and Comptroller, 109 Army Pentagon, Washington, DC 20310-0109.

Office of the Assistant Secretary of the Army (Installations and Environment), 110 Army Pentagon, Washington, DC 20310-0110.

Office of the Assistant Secretary of the Army (Manpower and Reserve Affairs), 111 Army Pentagon, Washington, DC 20310-0111.

Office of the General Counsel, 104 Army Pentagon, Washington, DC 20310-0104.

Office of the Director of Information Systems for Command, Control, Communications, and Computers, 107 Army Pentagon, Washington, DC 20310-0107.

Office of the Inspector General, 1700 Army Pentagon, Washington, DC 20310-1700.

Office of the Auditor General, 3101 Park Center Drive, Alexandria, VA 22302-1596.

Office of the Chief of Legislative Liaison, Office of the Secretary of the Army, 1600 Army Pentagon, Washington, DC 20310-1600.

Office of the Chief, Public Affairs, 1500 Army Pentagon, Washington, DC 20310-1500.

Director, Office of Small and Disadvantaged Business Utilization, 106 Army Pentagon, Washington, DC 20310-0106.

Office of the Deputy Under Secretary of the Army for International Affairs, 102 Army Pentagon, Washington, DC 20310-0102.

Office of the Deputy Under Secretary of the Army for Operations Research, 102 Army Pentagon, Washington, DC 20310-0102.

Office of the Chief of Staff, 200 Army Pentagon, Washington, DC 20310-0200.

Office of the Deputy Chief of Staff for Intelligence, 1000 Army Pentagon, Washington, DC 20310-1000.

Office of the Deputy Chief of Staff for Logistics, 500 Army Pentagon, Washington, DC 20310-0500.

Office of the Deputy Chief of Staff for Operations and Plans, 400 Army Pentagon, Washington, DC 20310-0400.

Office of the Deputy Chief of Staff for Personnel, 300 Army Pentagon, Washington, DC 20310-0300.

Office of the Assistant Chief of Staff for Installation Management, 600 Army Pentagon, Washington, DC 20310-0600.

Office of the Chief of Engineers, 2600 Army Pentagon, Washington, DC 20310-2600.

Office of the Surgeon General, 5109 Leesburg Pike, Falls Church, VA 22041-3258.

Office of Chief, National Guard Bureau, 2500 Army Pentagon, Washington, DC 20310-2500.

Office of the Chief, Army Reserve, 2400 Army Pentagon, Washington, DC 20310-2400.

Office of the Judge Advocate General, 2200 Army Pentagon, Washington, DC 20310-2200.

Office of the Chief of Chaplains, 2700 Army Pentagon, Washington, DC 20310-2700.

Office of the Chief, Center of Military History, 102 4th Avenue, Fort McNair, DC 20319-5058.

Major Commands

Commander in Chief, U.S. Army Europe and Seventh Army, Unit 29351, APO AE 09014-0010.

Commander, U.S. Army Forces Command, 1777 Hardee Avenue, SW, Fort McPherson, GA 30330-1062.

Commander, U.S. Army Corps of Engineers, 20 Massachusetts Avenue NW, Washington, DC 20314-1000.

Commander, U.S. Army Criminal Investigation Command, 6010 6th Street, Fort Belvoir, VA 22060-5506.

Commander, U.S. Army Medical Command, 2050 Worth Road, Fort Sam Houston, TX 78234-6003.

Commander, U.S. Army Intelligence and Security Command, 8825 Beulah Street, Fort Belvoir, VA 22060-5246.

Commander, U.S. Army Materiel Command, 5001 Eisenhower Avenue, Alexandria, VA 22333-0001.

Commander, U.S. Army Military District of Washington, 103 Third Avenue, Fort McNair, DC 20319-5058.

Commander, U.S. Army South, P.O. Box 34000, Fort Buchanan, Puerto Rico 00934-5301.

Commander, U.S. Army Special Operations Command (Airborne), Fort Bragg, NC 28307-5200.

Commander, U.S. Army Space and Missile Defense Command, P.O. Box 15280, 111 South George Mason Drive, Arlington, VA 22215-0280.

Commander, U.S. Army Training and Doctrine Command, 102 McNair, Fort Monroe, VA 23651-1047.

Commander, U.S. Army Pacific, Fort Shafter, HI 96858-5100.

Commander, U.S. Army Operational Test and Evaluation, Command, 4501 Ford Avenue, Alexandria, VA 22302-1458.

Commander, Eighth U.S. Army, APO AP 96205-0010.

Commander, U.S. Military Traffic Management Command, 200 Stovall Street, Alexandria, VA 22332-5000.

Unified Commands

Commander in Chief, U.S. European Command, Unit 30400 Box 10000, APO AE 09128-4209.

Commander in Chief, U.S. Southern Command, 3511 NW 91st Avenue, Miami, FL 33172-1217.

Commander in Chief, U.S. Special Operations Command, 7701 Tampa Point Boulevard, MacDill Air Force Base, FL 33621-5357.

Commander in Chief, U.S. Atlantic Command, 1562 Mitscher Avenue, Norfolk, VA 23551-2488.

Commander in Chief, U.S. Pacific Command, Honolulu, HI 96861-4031.

Commander in Chief, U.S. Space Command, 250 South Peterson Boulevard, Peterson AFB, CO 80914-3190.

Commander in Chief, U.S. Transportation Command, 508 Scott Drive, Scott AFB, IL 62225-5357.

Commander in Chief, U.S. Strategic Command, 901 Sac Boulevard, Offutt AFB, NE 68113-6000.

Army Field Operating Agencies, Subordinate Commands, and Major Installations

Alabama

Commander, U.S. Army Aviation and Missile Command, Redstone Arsenal, AL 35898-5300.

Commander, U.S. Army Safety Center and School, 1649 5th Avenue, Fort Rucker, AL 36362-5009.

Commander, U.S. Army Engineering and Support Center P.O. Box 1600, Huntsville, AL 35807-4301.

Commander, U.S. Army Engineer District Mobile, P.O. Box 2288, Mobile, AL 36628-0001.

Commander, Anniston Army Depot, 7 Frankford Avenue, Anniston, AL 36201-4199.

Commander, U.S. Army Aviation Center and Fort Rucker, Fort Rucker, AL 36362-5000.

Alaska

Commander, U.S. Army Alaska, Fort Richardson, AK 99595-5000.

Commander, U.S. Army Engineer District Alaska, P.O. Box 898, Anchorage, AK 99506-0898.

Arizona

Commander, U.S. Army Signal Command, Fort Huachuca, AZ 85613-5000.

Commander, U.S. Army Intelligence Center and Fort Huachuca, Fort Huachuca, AZ 85613-6000.

Commander, U.S. Army Yuma Proving Ground, Yuma, AZ 85635-9102.

Arkansas

Commander, U.S. Army Engineer District Little Rock, P.O. Box 867, Little Rock, AR 72203-0867.

Commander, Pine Bluff Arsenal, 10020 Karbrich Circle, Pine Bluff, AR 71602-9500.

California

Commander, U.S. Army Engineer Division South Pacific, 333 Market Street, San Francisco, CA 94105-2102.

Commander, U.S. Army Engineer District Los Angeles, P.O. Box 2711, Los Angeles, CA 90053-2325.

Commander, U.S. Army Engineer District Sacramento, 1325 J Street, Sacramento, CA 95814-2922.

Commander, U.S. Army Engineer District San Francisco, 333 Market Street, San Francisco, CA 94105-2102.

Commander, National Training Center, Fort Irwin, CA 92310-5076.

Colorado

Commander, U.S. Army Space Command, 1670 North Newport Road, Colorado Springs, CO 80196-2749.

Commander, U.S. Army Fort Carson, 1430 Wetzl Street, Fort Carson, CO 80913-5050.

District of Columbia

Director, U.S. Army Special Operations Agency, 400 Army Pentagon, Washington, DC 20310-0400.

Commander, Armed Forces Institute of Pathology, Walter Reed Army Medical Center, 6925 16th Street NW, Washington, DC 20307-6000.

Director, U.S. Army Command and Control Support Agency, 3200 Army Pentagon, Washington, DC 20310-3200.

Commander, Walter Reed Army Medical Center, 6900 Georgia Avenue NW, Washington, DC 20307-5001.

Commander, Fort Lesley J. McNair, 4th and P Streets, Fort McNair, DC 20319-0001.

Florida

Commander, U.S. Central Command, 7115 South Boundary Blvd, MacDill AFB, FL 33621-5101.

Commander, U.S. Army Engineer District Jacksonville, P.O. Box 4970, Jacksonville, FL 32232-0019.

Georgia

Commander, U.S. Army Reserve Command, 1401 Deshler Street, Fort McPherson, GA 30330-2000.

Commander, U.S. Army Engineer Division South Atlantic, 77 Forsyth Street, SW, Atlanta, GA 30303-3490.

Commander, U.S. Army Engineer District Savannah, P.O. Box 889, Savannah, GA 31402-0889.

Commander, Dwight David Eisenhower Army Medical Center, Fort Gordon, GA 30905-5650.

Commander, U.S. Army Signal Center and Fort Gordon, Fort Gordon, GA 30905-5010.

Commander, U.S. Army Infantry Center, Fort Benning, GA 31905-5323.

Commander, U.S Army Fort Stewart and Hunter Army Airfield, 42 Wayne Place, Fort Stewart, GA 31314-5044.

Hawaii

Commander, U.S. Army Engineer Division Pacific Ocean, Building 230, Fort Shafter, HI 96858-5440.

Commander, U.S. Army Engineer District Honolulu, Building 230, Fort Shafter, HI 96858-5440.

Illinois

Commander, U.S. Military Entrance Processing Command, 2834 Green Bay Road, North Chicago, IL 60064-3057.

Commander, U.S. Army Engineer Great Lakes Regional Office, 111 North Canal Street, Chicago, IL 60606-7205.

Commander, U.S. Army Engineer District Chicago, 111 North Canal Street, Chicago, IL 60606-7205.

Commander, U.S. Army Engineer District Detroit, P.O. Box 1037, Detroit, MI 48231-1027.

Commander, U.S. Army Engineer District Rock Island, P.O. Box 2004, Rock Island, IL 61204-2004.

Indiana

Commander, U.S. Army Enlisted Records and Evaluation Center, 8899 East 56th Street, Indianapolis, IN 46249-5301.

Kansas

Commander, U.S. Army Combined Arms Center and Fort Leavenworth, 600 Thomas Avenue, Fort Leavenworth, KS 66027-1417.

Commander, Headquarters Fort Riley, Huebner Road, Fort Riley, KS 66442-5000.

Kentucky

Commander, U.S. Army Recruiting Command, 1307 3rd Avenue, Fort Knox, KY 40121-2726.

Commander, U.S. Army Engineer District Louisville, P.O. Box 59, Louisville, KY 40201-0059.

Commander, U.S. Army 101st Airborne Division and Fort Campbell, 39 26th Street, Fort Campbell, KY 42223-5000.

Commander, U.S. Army Armor Center and Ft Knox, Fort Knox, KY 40121-5000.

Louisiana

Commander, U.S. Army Engineer District New Orleans, P.O. Box 60267, New Orleans, LA 70160-0267.

Maryland

Commander, U.S. Army Research and Materiel Command, 504 Scott Street, Fort Detrick MD 21702-5012.

Director, U.S. Army Physical Disability Agency, 8120 Woodmont Avenue, Bethesda, MD 20814-2796.

Director, U.S. Army Research Laboratory, 2800 Power Mill Road, Adelphi, MD 20783-1197.

Commander, U.S. Army Chemical and Biological Defense Command, 5232 Fleming Road, Aberdeen Proving Ground, MD 21010-5423.

Commander, U.S. Army Engineer District, Baltimore and Supervisor of Harbor Baltimore, P.O. Box 1715, Baltimore, MD 21203-1715.

Commander, U.S. Army Aberdeen Proving Ground, Aberdeen Proving Ground, MD 21010-5001.

Commander, U.S. Army Claims Service, 4411 Llewellyn Avenue, Fort Meade, MD 20755-5300.

Commander, U.S. Army Central Personnel Security Clearance Facility, 4552 Pike Road, Fort Meade, MD 20755-5250.

Commander, U.S. Army Medical Research Institute of Chemical Defense, 3100 Ricketts Point Road, Aberdeen Proving Ground, MD 21010-5400.

Commander, U.S. Army Fort George G. Meade, 4551 Llewellyn Avenue, Fort Meade, MD 20755-5000.

Director, U.S. Army Concepts Analysis Agency, 8120 Woodmont Avenue, Bethesda, MD 20814-2743.

Commander, U.S. Army Chemical Research, Development, and Engineering Center, Aberdeen Proving Ground, MD 21010-5423.

Commander, U.S. Army Medical Research Institute of Infectious Diseases, 1425 Porter Street, Fort Detrick, MD 21701-5011.

Commander U.S. Army Medical Research and Development Command, 521 Detrick Street, Fort Detrick, MD 21701-5012.

Commander, U.S. Army Medical Bioengineering Research and Development Laboratory, Fort Detrick, MD 21701-5010.

Massachusetts

Commander, U.S. Army Soldier Systems Command, Natick, MA 01760-5000.

Commander, U.S. Army Engineer District New England, Frederick C. Murphy Federal Building, 424 Trapelo Road, Waltham, MA 02254-9149.

Commander, U.S. Army Natick Research, Development and Engineering Center, Natick, MA 01760-5020.

Commander, U.S. Army Research Institute of Environmental Medicine, 6501 E-11 Mile Road, Natick, MA 01760-5007.

Michigan

Commander, U.S. Army Tank-Automotive and Armaments Command, Warren, MI 48397-5000.

Commander, U.S. Army Engineer District Detroit, P.O. Box 1027, Detroit, MI 48231-1027.

Minnesota

Commander, U.S. Army Engineer District St. Paul, Army Corps of Engineers Center, 190 5th Street East, St. Paul, MN 55101-1638.

Mississippi

Commander, U.S. Army Engineer Division Mississippi Valley, P.O. Box 80, Vicksburg, MS 39181-0080.

Commander, U.S. Army Engineer District Vicksburg, 4155 Clay Street, Vicksburg, MS 39180-3435.

Missouri

Commander, Army Reserve Personnel Center, 9700 Page Avenue, St. Louise, MO 63132-5200.

Commander, U.S. Army Engineer District St. Louis, 1222 Spruce Street, St. Louis, MO 63103-2833.

Commander, U.S. Army Engineer District Kansas City, 700 Federal Building, Kansas City, MO 64106-2896.

Commander, U.S. Army Chemical and Military Police Centers, Fort Leonard Wood, MO 65473-8935.

Commander, U.S. Army Engineer Center, 32 Engineer Loop, Fort Leonard Wood, MO 65473-8703.

Nebraska

Commander, U. S. Army Engineer, Missouri River Region, 12565 West Center Road, Omaha, NE 68144-3869.

Commander, U.S. Army Engineer District Omaha, 215 North 17th Street, Omaha, NE 68102-4978.

New Jersey

Commander, U.S. Army Reserve Command and Fort Dix, Fort Dix, NJ 08640-5001.

Commandant, U.S. Military Academy Preparatory School, Fort Monmouth, NJ 07703-5000.

Commander, Picatinny Arsenal, Dover, NJ 07806-5000.

Commander, U.S. Army Training Center and Fort Dix, Fort Dix, NJ 08640-5001.

New Mexico

Commander, U.S. Army Engineer District Albuquerque, 4101 Jefferson Plaza NE, Albuquerque, NM 87109-3435.

Commander, U.S. Army White Sands Missile Range, White Sands, NM 88002-5031.

New York

Commander, U.S. Army Engineer District Buffalo, 1776 Niagara Street, Buffalo, NY 14207-3199.

Commander, U.S. Army Engineer Division North Atlantic, 90 Church Street, New York, NY 10007-2979.

Commander, U.S. Army Engineer District New York and Supervisor of New York Harbor, 26 Federal Plaza, New York, NY 10278-0090.

Superintendent, U.S. Military Academy, West Point, NY 10996-2001.

North Carolina

Commander, U.S. Army Engineer District Wilmington, P.O. Box 1890, Wilmington, NC 28402-1890.

Commander, U.S. Army John F. Kennedy Special Warfare Center and School, Fort Bragg, NC 28307-5200.

Commander, U.S. Army Special Forces (Airborne) Command, Fort Bragg, NC 28307-5200.

Director, U.S. Army Research Office, 4300 South Miami Blvd, Research Triangle Park, NC 27703-9142.

Ohio

Commander, U.S. Army Engineer Division Great Lakes and Ohio River, P.O. Box 1159, Cincinnati, OH 45202-2215.

Oklahoma

Commander, U.S. Army Engineer District Tulsa, P.O. Box 61, Tulsa, OK 74121-0061.

Commander, U.S. Army Field Artillery Center and Fort Sill, Fort Sill, OK 73503-5000.

Oregon

Commander, U.S. Army Engineer Division Northwestern, P.O. Box 2870, Portland, OR 97208-2870.

Commander, U.S. Army Engineer District Portland, P.O. Box 2946, Portland, OR 97208-2946.

Commander, U.S. Army Engineer North Pacific Regional, P.O. Box 2870, Portland, OR 97208-2870.

Pennsylvania

Commander, U.S. Army Engineer District Pittsburgh, William S. Moorehead Federal Building, 1000 Liberty Avenue, Pittsburgh, PA 15222-4186.

Commander, U.S. Army Engineer District Philadelphia, 100 Penn Square East, Philadelphia, PA 19107-3390.

Commandant, U.S. Army War College, 122 Forbes Avenue, Carlisle Barracks, PA 17013-5215.

Commander, Letterkenny Army Depot, Chambersburg, PA 17201-4150.

Commander, Tobyhanna Army Depot, 11 Hap Arnold Boulevard, Tobyhanna, PA 18466-5000.

South Carolina

Commander, U.S. Army Engineer District Charleston, P.O. Box 919, Charleston, SC 29402-0919.

Commander, U.S. Army Training Center, Fort Jackson, Columbia, SC 29207-5001.

Tennessee

Commander, U.S. Army Engineer District Nashville, P.O. Box 1070, Nashville, TN 37202-1070.

Commander, U.S. Army Engineer District Memphis, 167 North Main Street, Memphis, TN 38103-1894.

Texas

Commander, U.S. Army Engineer Division Southwestern, 1114 Commerce Street, Dallas, TX 75242-0216.

Commander, U.S. Army Engineer District Fort Worth, P.O. Box 17300, Fort Worth, TX 76102-0300.

Commander, U.S. Army Engineer District Galveston, P.O. Box 1229, Galveston, TX 77553-1229.

Commander, U.S. Army Air Defense Artillery Center, 1733 Pleaston Road, Fort Bliss, TX 79916-6816.

Commander, U.S. Army Institute of Dental Research, Fort Sam Houston, TX 78234-6200.

Utah

Commander, U.S. Army Dugway Proving Ground, Dugway, UT 84022-5000.

Commander, Tooele Army Depot, Tooele, UT 84074-5000.

Virginia

Commander, U.S. Total Army Personnel Command, 200 Stovall Street, Alexandria, VA 22332-0400.

Director, Army Review Boards Agency, 1941 Jefferson Davis Highway, Arlington, VA 22202-4508

Director, U.S. Army Legal Service Agency, 5611 Columbia Pike, Falls Church, VA 22041-5013.

Commander, U.S. Army Center for Substance Abuse Programs, 4501 Ford Avenue, Alexandria, VA 22302-1460.

Director, U.S. Army Records Management and Declassification Agency, 6000 6th Street, Fort Belvoir, VA 22060-5603.

Director, U.S. Army Records Management and Declassification Agency, Center for Research of Unit Records, 7798 Cissna Road, Springfield, VA 22150-3197.

Director, U.S. Army Records Management and Declassification Agency, Freedom of Information Act/Privacy Act Office, 7798 Cissna Road, Springfield, VA 22150-3197.

Director, The Institute of Heraldry, 9325 Gunston Road, Fort Belvoir, VA 22050-5579.

Director, Military Postal Service Agency, 2461 Eisenhower Avenue, Alexandria, VA 22331-0006.

Director, U.S. Army Crime Records Center, 6010 6th Street, Fort Belvoir, VA 22060-5585.

Commander, U.S. Army Security Assistance Command, 5001 Eisenhower Avenue, Alexandria, VA 22333-0001.

Director, U.S. Army Civilian Personnel Evaluation Agency, 1941 Jefferson Davis Highway, Arlington, VA 22202-4508.

Commander, U.S. Army Engineer District Norfolk and Supervisor of Norfolk Harbor, 803 Front Street, Norfolk, VA 23510-1096.

Commander, U.S. Army Engineer Trans Atlantic Programs Center, P.O. Box 2250, Winchester, VA 22604-1450.

Director, U.S. Army Board for the Correction of Military Records, 1941 Jefferson Davis Highway, Arlington, VA 22202-4508.

Commander, U.S. Army Combine Arms Support Command and Fort Lee, Fort Lee, VA 23801-1703.

Commandant, The Judge Advocate General School, U.S. Army, 600 Massie Road, Charlottesville, VA 22903-1781.

Chief, U.S. Army Litigation Division, 901 N. Stuart Street, Suite 400, Arlington, VA 22203-1837.

Commander, U.S. Army Community and Family Support Center, 2461 Eisenhower Avenue, Alexandria, VA 22331-0503.

Commander, U.S. Army Training Support Center, 2787 Madison Avenue, Fort Eustis, VA 23604-5166.

Commander, U.S. Army Research Institute for the Behavioral and Social Sciences, 5001 Eisenhower Avenue, Alexandria, VA 22333-5600.

Director, U.S. Army Gulf War Declassification Project, 5111 Leesburg Pike, Falls Church, VA 22041-3206.

Director, U.S. Army Publishing Agency, 2461 Eisenhower Avenue, Alexandria, VA 22331-0302.

Commander, U.S. Army Transportation Center and Fort Eustis, 705 Read Street, Fort Eustis, VA 23604-5078.

Commander, U.S. Army Fort Monroe, Fort Monroe, VA 23651-6000.

Commandant, U.S. Army Logistics Management College, Fort Lee, VA 23801-5000.

Commander, U.S. Army Quartermaster Center and School, Fort Lee, VA 23801-5000.

Washington

Commander, U.S. Army Engineer District Seattle, P.O. Box 3755, Seattle, WA 98124-3755.

Commander, U.S. Army Engineer District Walla Walla, 201 North Third Avenue, Walla Walla, WA 99362-1876.

Commander, U.S Army Fort Lewis and I Corps, Fort Lewis, WA 98433-5000.

West Virginia

Commander, U.S. Army Engineer District Huntington, 502 8th Street, Huntington, WV 25701-2070.

Wisconsin

Commander, U.S. Army Reserve Command—Fort McCoy, 2016 South 11th Avenue, Fort McCoy, WI 54656-5121.

Overseas

Commander, U.S. Army Engineer District Far East, Unit 15546, APO AP 96205-0610.

Commander, U.S. Army Engineer District Japan, Unit 45010, APO AP 96338-5010.

Commander, U.S. Army Engineer District Europe, CMR 410 Box 1, APO AE 09096.

Commander, U.S. Forces, Korea, Unit 15237, APO AP 96205-0010.

Other Department of Defense Activities

Commander, Army and Air Force Exchange Service, 3911 S. Walton Walker Boulevard, Dallas, TX 75236-0202.

Commander, Army and Air Force Exchange Service-Europe Region, Building 4001, In der Witz 14-18, 55252 Mainz-Kastel, Germany, APO AP 09251-4580.

Commander, Army and Air Force Exchange Service-Europe, Pinder Barracks, Schwabacherster 20 8502 Zirndorf, APO AP 96378-0163.

Commander, Army and Air Force Exchange—Europe, Europe Accounting Support Office, CMR 429, APO AE 09054.

Commander, Army and Air Force Exchange—Pacific Rim, Accounting Support Center, Unit 35163, APO AP 96378-5163.

President, National Defense University, 100 McNair Street, Fort McNair, DC 20319-0001.

National Personnel Records Center (Civilian Personnel Records), 111 Winnebago Street, St. Louis, MO 63118-4126.

National Personnel Records Center (Military Personnel Records), 9700 Page Avenue, St Louis, MO 63132-5100.

Commandant, Academy of Health Services, 3151 Scott Road, Fort Sam Houston, TX 78234-6138.

**Additional listing of Army addresses can be found in DA PAM 25-50, Compilation of Army Addresses. This publication can be obtained electronically from web site http://www.usapa.army.mil/.

[FR Doc. 01-9831 Filed 4-19-01; 8:45 am]

BILLING CODE 5001-10-P